DEPARTMENT OF THE INTERIOR

Bureau of Land Management

[OR-030-1020-PN; HAG 08-0097]

Meeting Notice for the John Day/Snake Resource Advisory Council

AGENCY: Bureau of Land Management (BLM), Vale District.

ACTION: Meeting Notice for the John Day/Snake Resource Advisory Council.

SUMMARY: The John Day/Snake Resource Advisory Council meeting is scheduled for September 16, 2008, in John Day, Oregon.

The John Day/Snake Resource Advisory Council meeting is scheduled for September 16, 2008. The meeting will take place at the Malheur National Forest Supervisor Office, 431 Patterson Bridge Road, John Day, OR, from 8 a.m. to 4 p.m. The meeting may include such topics as the Baker Resource Management Planning, Transportation Planning, Wallowa-Whitman Weed Environmental Impact Statement (EIS), BLM Vegetation Treatments EIS, Travel Management Planning and Energy Rights-of-Way and other matters as may reasonably come before the council. A field trip is scheduled for September 15th to view Off-Highway Vehicle issues and vegetation and weed management issues on BLM lands near John Day, Oregon.

The meeting is open to the public. Public comment is scheduled for 1 p.m. to 1:15 p.m. (Pacific Time) September 16, 2008. For a copy of the information to be distributed to the Council members, please submit a written request to the Vale District Office 10 days prior to the meeting.

FOR FURTHER INFORMATION CONTACT: Additional information concerning the John Day/Snake Resource Advisory Council may be obtained from Mark Wilkening, Public Affairs Officer, Vale District Office, 100 Oregon Street, Vale, Oregon 97918, (541) 473-6218 or e-mail mark_wilkening@blm.gov.

Dated: July 31, 2008.
David R. Henderson,
District Manager.

[FR Doc. E8-18097 Filed 8-6-08; 8:45 am]

BILLING CODE 4310-33-P